SMALL BUSINESS ADMINISTRATION

Maine District Advisory Council; Public Meeting

The U.S. Small Business Administration Maine District Advisory Council, located in the geographical area of Augusta, Maine will hold a public meeting on Tuesday, March 27, 2007, starting at 10 a.m. The meeting will be held at Husson College, Center for Family Business, One College Circle, Bangor, ME 04401.

The purpose of the meeting is to discuss the following topics: (1) SBA Small Business Week; (2) Lender update (centralized processing, participating and lender forms); (3) Updates by SCORE; Maine Small Business Development Center and Women's Business Center; (4) An overview of SBA's Alternate Work Site in Bangor, Maine presented by Herb Thomas, Senior Area Manager.

For further information, write or call Mary McAleney, District Director, U.S. Small Business Administration, Maine District Office, 68 Sewall Street, Room 512, Augusta, Maine 04330, (207) 622-8386 phone, (207) 622-8277 fax.

Matthew L. Teague,
Committee Manager Officer.

[FR Doc. E7-4377 Filed 3-9-07; 8:45 am]

BILLING CODE 8025-01-P